INTERNATIONAL TRADE COMMISSION

[USITC SE-10-023]

Government in the Sunshine Act Meeting Notice

Agency holding the meeting: United States International Trade Commission.

Time and Date: July 1, 2010 at 10 a.m.

Place: Room 101, 500 E Street, SW., Washington, DC 20436, Telephone: (202) 205-2000.

Status: Open to the public.

Matters To Be Considered

1. Agenda for future meetings: None.

2. Minutes.

3. Ratification List.

4. Inv. Nos. 701-TA-466 and 731-TA-1162 (Final)(Wire Decking from China)—briefing and vote. (The Commission is currently scheduled to transmit its determinations and Commissioners' opinions to the Secretary of Commerce on or before July 26, 2010.)

5. Outstanding action jackets: None.

In accordance with Commission policy, subject matter listed above, not disposed of at the scheduled meeting, may be carried over to the agenda of the following meeting.

By order of the Commission:
Issued: June 24, 2010.
William R. Bishop,
Hearings and Meetings Coordinator.

[FR Doc. 2010-15804 Filed 6-25-10; 11:15 am]

BILLING CODE 7020-02-P